DEPARTMENT OF ENERGY

International Energy Agency Meeting

AGENCY: Department of Energy.

ACTION: Notice of meeting.

SUMMARY: The Industry Advisory Board (IAB) to the International Energy Agency (IEA) will meet on September 18, 2003, at the Sony Center at Potsdamer Platz, Berlin, Germany; and on September 19, 2003, in connection with an IEA seminar on Oil Stocks and New Challenges in the Oil Market, hosted by the German Federal Ministry of Economy and Labor on the same date at Scharnhorststrasse 34-37, Berlin, Germany.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the Sony Center at Potsdamer Platz, Berlin, Germany, on September 18, 2003, from 3 p.m. to 6 p.m. The agenda for the IAB meeting is as follows:

I. Welcome, Review of Agenda, and Introductions

II. Near-term Goals of the IEA

III. Overview of Upcoming Work at IEA

IV. Progress Report: International Energy Forum & IEA World Energy Outlook 2003

V. Introduction of Draft Outline for Emergency Response Exercise 3 (ERE3)

VI. Discussion of Design Questions for ERE3

VII. Closing and Review of Upcoming IAB Meetings

A meeting of the IAB will be held on September 19, 2003, in connection with a Seminar on Oil Stocks and New Challenges in the Oil Market, sponsored by the IEA and hosted by the German Federal Ministry of Economy and Labor at Scharnhorststrasse 34-37, Berlin, Germany, commencing at 9:15 a.m. The purpose of this notice is to permit attendance by representatives of U.S. company members of the IAB at the IEA-sponsored Seminar, which is scheduled to be held at the same time and location.

The agenda for the Seminar is under the control of the IEA. It is expected that the IEA will adopt the following agenda:

Opening

I. Opening Speeches

Session 1: Dynamics of Global Oil Market and Challenges to Oil Security

I. Recent Oil Market Events, Near-Term Risks and the Continuing Importance of Strategic Stocks

II. Industry's Perspective on Recent Oil Market Events and the Role of the IEA and Strategic Stocks

III. Discussion

IV. The Post Iraq Oil Market and the Role of Strategic Stocks

V. Global Investment Outlook to 2030: Key Trends and Uncertainties

VI. Discussion

Session 2: Oil Security and Stockholding

I. Overview of IEA Member Country Stockholding Regimes

II. Discussion

III. Stocks, Data and the Oil Market

IV. Public Stocks, Mandatory Industry Stocks and Fair Competition in the Market

V. Emergency Reserves and the Growing Use of Bilateral Stockholding Tickets

VI. Discussion

Session 3: A Global Framework for Future Oil Security

I. Recent Developments in Stockholding by Non-Member Countries

II. The Role of Non-Member Consuming Countries in Global Oil Supply Security: Strategic Stocks

III. How Will the Producer/Consumer Dialogue Promote Stability in Global Energy Markets?

IV. Discussion

Concluding Discussion—Key Issues for the Future of Oil Security

I. Summary of the Chairmen and Discussion

II. Conclusion

As provided in section 252(c)(1)(A)(ii) of the Energy Policy and Conservation Act (42 U.S.C. 6272(c)(1)(A)(ii)), the meeting of the IAB on September 18 is open only to representatives of members of the IAB and their counsel; representatives of members of the IEA's Standing Group on Emergency Questions (SEQ); representatives of the Departments of Energy, Justice, and State, the Federal Trade Commission, the General Accounting Office, Committees of Congress, the IEA, and the European Commission; and invitees of the IAB, the SEQ, or the IEA. The expected participants at the IEA-sponsored Seminar on September 19 include Government members of the SEQ, representatives of the German Federal Ministry of Economy and Labor, representatives of the IEA Secretariat, and representatives of members of the IAB.

Issued in Washington, DC, September 5, 2003.
Samuel M. Bradley,
Assistant General Counsel for International and National Security Programs.

[FR Doc. 03-23166 Filed 9-10-03; 8:45 am]

BILLING CODE 6450-01-P